DEPARTMENT OF HEALTH AND HUMAN SERVICES

Administration for Children and Families

Submission for OMB Review; Comment Request

Title: Objective Work Plan (OWP), Objective Progress Report (OPR) and Project Abstract.

OMB No.: 0980-0204.

Description: Content changes are being proposed for the OPR and OWP ONLY. The information in the OPR is collected on a quarterly basis to monitor the performance of grantees and better gauge grantee progress. The standardized format allows ANA to report results across all its program areas and flag grantees that may need additional training and/or technical assistance to successfully implement their projects. The following are proposed changes within specific sections of the OPR form:

Objective Work Plan Update Section: ANA has added fields for 1st through 4th Quarter (Q1,Q2,Q3,Q4) to report the results for activities within each Project Objective. The grantee may continue to add to this form each quarter (rather than to a new form), reflecting cumulative results throughout the project period instead of a single quarter.

Financial Section: ANA has added 2 questions to: (1) Provide details on any income generated as a result of ANA project activities; (2) Provide details on any changes made to the budget during the reporting period.

Native American Youth and Elder Opportunities Section: ANA has added a question to: (1) Request details on any intergenerational activities between grandparents and their grandchildren. Finally, ANA has added a new section (last section) to the form titled: PROJECT SUSTAINABILITY, to: (1) Request details on the grantee's intention to continue the project benefits and/or services after ANA's funding period for the project has ended.

End of Changes to the OPR

The OWP: The information collected through the OWP is needed to properly administer and monitor the Administration for Native Americans (ANA) programs. The OWP assists applicants in describing their projects' objectives and activities, and also assists independent panel reviewers, ANA staff and the ANA Commissioner during review and funding decision process.

Changes Specific Sections of the OWP

Problem Statement: ANA added a field for applicants to include the problem statement they identified in their grant application.

Position Performing the Activity: On the previous OWP, ANA requested applicants to identify the position responsible for each activity. ANA has changed this title to “position performing the activity” and applicants are asked to identify the lead person in one column and other support persons in the second column.

End of Changes to the OWP

Project Abstract: The Project Abstract form is no longer managed by ANA.

Respondents: Tribal Government, Native Non-profit Organizations, Tribal Colleges & Universities.

Annual Burden Estimates
Instrument | Number of respondents | Number of responses per respondent | Average burden hours per response | Total burden hours
OWP | 500 | 1 | 3 | 1,500
OPR | 275 | 4 | 1 | 1,100

Estimated Total Annual Burden Hours: 2,850.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. Fax: 202-395-7285. Email: OIRA_SUBMISSION@OMB.EOP.GOV. Attn: Desk Officer for the Administration for Children and Families.

Robert Sargis,
Reports Clearance Officer.

[FR Doc. 2012-4973 Filed 2-29-12; 8:45 am]

BILLING CODE 4184-01-P